DEPARTMENT OF COMMERCE

National Oceanic and Atmospheric Administration

RIN 0648-XB066

Marine Recreational Fisheries of the United States; Southeast Data, Assessment, and Review (SEDAR); Public Meetings

AGENCY: National Marine Fisheries Service (NMFS), National Oceanic and Atmospheric Administration (NOAA), Commerce.

ACTION: Notice of Marine Recreational Fisheries Statistics Survey (MRFSS)/Marine Recreational Information Program (MRIP) Calibration Workshop.

SUMMARY: SEDAR and NOAA Fisheries Service will convene a workshop to consider calibration methods for the MRFSS and MRIP estimates of marine recreational fisheries harvest.

DATES: The workshop will be held March 27-29, 2012. See SUPPLEMENTARY INFORMATION for specific dates and times.

ADDRESSES: The MRFSS/MRIP Calibration Workshop will be held at the Doubletree by Hilton Raleigh Brownstone—University, 1707 Hillsborough Street, Raleigh, NC 27605; telephone: (800) 331-7919 or (919) 828-0811.

FOR FURTHER INFORMATION CONTACT: John Carmichael, Science and Statistics Program Manager, 4055 Faber Place Drive, Suite 201, North Charleston, SC 29405; telephone: (843) 571-4366.

SUPPLEMENTARY INFORMATION: Changes in estimated recreational catch resulting from the revised estimation process developed through MRIP may have consequences to assessment and management of many fish stocks. Managers and scientists need to consider how revised marine recreational catch values will affect stock assessments and management actions, and how to best incorporate revised values into assessment and management systems. SEDAR and NOAA Fisheries are working cooperatively to address these recreational catch issues through the planned workshop. Workshop objectives are to review a range of studies that may provide insight for potential MRIP-MRFSS calibrations, develop possible calibration methods, and develop guidance for incorporating revised estimates into stock assessments.

Tuesday, March 27, 2012, 1 p.m.-6 p.m.: Review of calibration methodologies applied in other monitoring programs and MRFSS/MRIP calibration studies.

Wednesday, March 28, 2012: 8:30 a.m.-6 p.m.: Overview of catch estimates, impacts of re-estimates on stock assessments, discussion of calibration methods.

Thursday, March 29, 2012, 8:30 a.m.-12 p.m.: Discussion of calibration procedures and recommendations.

Special Accommodations

These meetings are physically accessible to people with disabilities. Requests for sign language interpretation or other auxiliary aids should be directed to the South Atlantic Council office (4055 Faber Place Drive, Suite 201, North Charleston, SC 29405; (843) 571-4366) at least 5 business days prior to the workshop.

Dated: March 6, 2012.
Tracey L. Thompson,
Acting Director, Office of Sustainable Fisheries, National Marine Fisheries Service.

[FR Doc. 2012-5810 Filed 3-9-12; 8:45 am]

BILLING CODE 3510-22-P